DEPARTMENT OF COMMERCE

National Oceanic and Atmospheric Administration

RIN 0648-XD527

Marine Mammals; File No. 18727

AGENCY: National Marine Fisheries Service (NMFS), National Oceanic and Atmospheric Administration (NOAA), Commerce.

ACTION: Notice; issuance of permit.

SUMMARY: Notice is hereby given that a permit has been issued to University of Alaska Museum of the North, 907 Yukon Drive, Fairbanks, AK 99775-6960 (Aren Gunderson, Responsible Party), to collect, import and export specimens of marine mammals for scientific research.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Brendan Hurley or Jennifer Skidmore, (301) 427-8401.

SUPPLEMENTARY INFORMATION: On Dec 8, 2014, notice was published in the Federal Register (79 FR 72630) that a request for a permit to receive, import, and export specimens of marine mammals for scientific research purposes had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The permit authorizes the permit holder to (1) import/export marine mammal parts (bones and organ tissue samples) from dead beach-cast carcasses, (2) receive/archive and export samples of marine mammals taken by Alaskan Native subsistence hunters, and (3) receive, import/export specimens from scientists in academic, federal, and state institutions involved in marine mammal research under their own permits. Unlimited samples from up to 2,000 pinnipeds (excluding walrus) and 600 cetaceans would be collected, received, imported, or exported annually. Import/export activities would occur world-wide. No live animals would be harassed or taken, lethally or otherwise, under the requested permit. The permit is valid through December 31, 2020.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Dated: January 13, 2016.
Julia Harrison,
Chief, Permits and Conservation Division, Office of Protected Resources, National Marine Fisheries Service.

[FR Doc. 2016-00857 Filed 1-15-16; 8:45 am]

BILLING CODE 3510-22-P